DEPARTMENT OF COMMERCE

International Trade Administration

[A-570-848]

Freshwater Crawfish Tail Meat From the People's Republic of China: Notice of Partial Recission of New Shipper Antidumping Duty Review

AGENCY: Import Administration, International Trade Administration, Department of Commerce.

ACTION: Notice of partial recission of new shipper antidumping duty review

DATES: Effective Date: September 15, 2000.

SUMMARY: On June 1, 2000, the Department of Commerce (the Department) published in the Federal Register (65 FR 35046) a notice announcing the initiation of four new shipper reviews of the antidumping duty order on freshwater crawfish tail meat (crawfish) from the People's Republic of China (PRC), covering the period September 1, 1999 through February 29, 2000. One new shipper review is now being rescinded as a result of the withdrawal of request for a new shipper antidumping duty review by Rizhao Riyuan Marine and Food Products Co., Ltd. (Rizhao Riyuan).

FOR FURTHER INFORMATION CONTACT: Thomas Gilgunn, AD/CVD Enforcement Group III, Import Administration, U.S. Department of Commerce, 14th Street and Constitution Avenue, NW., Washington, DC 20230, telephone: (202) 482-0648.

SUPPLEMENTARY INFORMATION:

Background

On March 29, 2000, Rizhao Riyuan, an exporter of the subject merchandise, requested a new shipper review of the antidumping duty order on crawfish from the PRC in accordance with 19 CFR 351.214(b). On June 1, 2000, in accordance with 19 CFR 351.221(c)(1)(i), we initiated a new shipper review of this order for the period September 1, 1999 through February 29, 2000. On July 11, 2000, Rizhao Riyuan withdrew its request for this review.

Recission of Review

The Department's regulations at 19 CFR 351.214(f)(1) provide that a party may withdraw its request for a new shipper review within 60 days of the date of publication of the notice of initiation of the requested review. Rizhao Riyuan's request for withdrawal was made within the 60 day period. Rescission of this review would not prejudice any party in this proceeding, as Rizhao Riyuan would continue to be included in the PRC-wide rate to which it was subject at the time of its request for this new shipper review. Rizhao Riyuan is the only party that requested a review of its sales for the period September 1, 1999 through February 29, 2000, and no other party has objected to its withdrawal of that request. Therefore, we are rescinding this review. This determination is issued and published in accordance with section 751 of the Tariff Act of 1930, as amended (19 U.S.C. 1675) and 19 CFR 351.214(f).

Dated: August 7, 2000.
Joseph A. Spetrini,
Deputy Assistant Secretary, AD/CVD Enforcement III.

[FR Doc. 00-23793 Filed 9-14-00; 8:45 am]

BILLING CODE 3510-DS-P